DEPARTMENT OF COMMERCE

Bureau of Industry and Security

15 CFR Part 744

[Docket No. 200211-0050]

RIN 0694-AH96

Addition of Entities to the Entity List, and Revision of Entry on the Entity List

AGENCY: Bureau of Industry and Security, Commerce.

ACTION: Final rule.

SUMMARY: In this rule, the Bureau of Industry and Security (BIS) amends the Export Administration Regulations (EAR) by adding twenty-four entities to the Entity List. These twenty-four entities have been determined by the U.S. Government to be acting contrary to the national security or foreign policy interests of the United States. These entities will be listed on the Entity List under the destinations of the People's Republic of China (China), Iran, Pakistan, Russia and the United Arab Emirates (U.A.E.). This rule also revises five existing entries on the Entity list, one each under the destinations of France, Iran, Lebanon, Singapore and the United Kingdom.

DATES: This rule is effective March 16, 2020.

FOR FURTHER INFORMATION CONTACT: Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to part 744 of the Export Administration Regulations (EAR)) identifies entities for which there is reasonable cause to believe, based on specific and articulable facts, that the entities have been involved, are involved, or pose a significant risk of being or becoming involved in activities contrary to the national security or foreign policy interests of the United States. The EAR (15 CFR parts 730-774) impose additional license requirements on, and limit the availability of most license exceptions for, exports, reexports, and transfers (in-country) to listed entities. The license review policy for each listed entity is identified in the “License review policy” column on the Entity List, and the impact on the availability of license exceptions is described in the relevant Federal Register notice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

Under § 744.11(b) (Criteria for revising the Entity List) of the EAR, entities for which there is reasonable cause to believe, based on specific and articulable facts, that the entities have been involved, are involved, or pose a significant risk of being or becoming involved in activities that are contrary to the national security or foreign policy interests of the United States, and those acting on behalf of such entities, may be added to the Entity List. Paragraphs (b)(1) through (b)(5) of § 744.11 provide an illustrative list of activities that could be considered contrary to the national security or foreign policy interests of the United States.

This rule implements the decision of the ERC to add twenty-four entities to the Entity List. The twenty-four entities being added are located in China, Iran, Pakistan, Russia and the U.A.E. The ERC made the decision to add each of the twenty-four entities described below under the standard set forth in § 744.11(b) of the EAR.

The ERC determined to add Wuhan IRCEN Technology and Jalal Rohollahnejad, under the destination of China, for acting contrary to U.S. national security or foreign policy interests by procuring goods on behalf of Rayan Roshd Afzar Company, which has been designated by the U.S. Department of the Treasury as a Specially-Designated Nationals (SDN).

The ERC determined to add Iran Air under the destination of Iran, because the ERC determined that Iran Air has transported military-related equipment on behalf of Iran's Islamic Revolutionary Guard Corps (IRGC) and Ministry of Defense and Armed Forces Logistics (MODAFL). Additionally, Iran Air's facilitation of the Iranian regime's malign activities throughout the Middle East, particularly its history of support for IRGC operations in Syria on behalf of the Syrian regime, poses a threat to U.S. security and foreign policy interests. Iran Air also has a history of diverting spare aircraft parts intended for civil aviation to military-linked entities and for military purposes.

The ERC also determined to add Aref Bali Lashak, Kamran Daneshjou, Mehdi Teranchi, Ali Mehdipour Omrani, and Sayyed Mohammad Mehdi Hadavi under the destination of Iran, as the ERC determined that these individuals have been involved in nuclear-related activities that are contrary to the national security and/or foreign policy interests of the United States.

The ERC determined to add National Engineering Service Trading and Consultancy Company, Triton Educational Equipment & Consultancy Co., and Advance Multicom under the destination of Pakistan. The ERC determined that National Engineering Service Trading and Consultancy Company and Triton Educational Equipment & Consultancy Co. have contributed to unsafeguarded nuclear activities, and that Advance Multicom has been involved in the proliferation of unsafeguarded nuclear activities.

The ERC determined to add Kepler Corporation and Samina Pvt. Ltd. under the destination of Pakistan. The ERC determined to add Kepler Corporation and Samina Pvt. Ltd. to the Entity List due to their involvement in the proliferation of unsafeguarded nuclear activities contrary to the national security or foreign policy interests of the United States.

The ERC also determined to add United Engineering and Skytech Global Pvt. Ltd., under the destination of Pakistan, based upon their contributions to Pakistan's missile program.

The ERC determined to add SNTS Tech, under the destination of Pakistan, as this entity attempted to procure U.S.-origin items for entities in Pakistan that are on the Entity List.

The ERC determined to add to SANCO Pakistan, under the destination of Pakistan, and SANCO Middle East, FZC and SANCO Middle East, LLC, under the destination of the U.A.E., as these three entities have procured and attempted to procure U.S.-origin items for a listed entity in Pakistan.

The ERC determined to add Technomar and Avilon Ltd., under the destination of Russia, as these two entities are acting on behalf of a listed entity in circumvention of licensing requirements by procuring U.S.-origin items for Technopole Company, which was added to the Entity List on September 7, 2016 (81 FR 61601).

The ERC determined to add Focus Middle East and Wellmar Technology FZE, under the destination of the U.A.E., as there is reasonable cause to believe that these entities have conspired to transship U.S.-origin commodities to Iran without the required U.S. Government authorization.

The ERC determined to add Pegasus General Trading FZC, under the destination of the U.A.E., as this entity has made multiple attempts to acquire U.S.-origin commodities ultimately destined for Pakistan's unsafeguarded nuclear program, has provided false and misleading information to BIS during an end-use check, and has falsified official documents to obfuscate the true end-users of items subject to the EAR.

Pursuant to § 744.11(b), the ERC determined that the conduct of the above-described twenty-four entities raises sufficient concerns that prior review of exports, reexports, or transfers (in-country) of all items subject to the EAR involving these entities, and the possible imposition of license conditions or license denials on shipments to these entities, will enhance BIS's ability to prevent violations of the EAR. For the twenty-four entities added to the Entity List in this final rule, BIS imposes a license requirement for all items subject to the EAR. For twenty of the twenty-four entities added to the Entity List in this final rule—Jalal Rohallahnejad, Wuhan IRCEN Technology, Aref Bali Lashak, Ali Mehdipour Omrani, Kamran Daneshjou, Mehdi Teranchi, Sayyed Mohammad Mehdi Hadavi, Kepler Corporation, Samina Pvt. Ltd., SANCO Pakistan, Skytech Global Pvt. Ltd., SNTS Tech, United Engineering, Avilon Ltd., Technomar, Focus Middle East, Pegasus General Trading FZC, SANCO Middle East FZC, SANCO Middle East LCC, and Wellmar Technology FZE—BIS imposes a license review policy of a presumption of denial. For Iran Air, the license review policy imposed by BIS is case-by-case review for licenses for the safety of civil aviation and the safe operation of aircraft; presumption of denial for all others. For National Engineering Service Trading and Consultancy Company, Triton Educational Equipment & Consultancy Co, and Advance Multicom, BIS imposes the license review policy set forth in § 744.2(d) of the EAR, a nuclear end-user and end-use based provision. In addition, no license exceptions are available for exports, reexports, or transfers (in-country) to the persons being added to the Entity List in this rule. The acronym “a.k.a.” (also known as) is used in entries on the Entity List to identify aliases, thereby assisting exporters, reexporters, and transferors in identifying entities on the Entity List.

For the reasons described above, this final rule adds the following twenty-four entities to the Entity List:

China

• Jalal Rohollahnejad; and

• Wuhan IRCEN Technology.

Iran

• Aref Bali Lashak;

• Ali Mehdipour Omrani;

• Iran Air;

• Kamran Daneshjou;

• Mehdi Teranchi; and

• Sayyed Mohammad Mehdi Hadavi.

Pakistan

• Advance Multicom;

• Kepler Corporation;

• National Engineering Service Trading and Consultancy Co.;

• Samina Pvt. Ltd.;

• SANCO Pakistan;

• Skytech Global Pvt. Ltd.;

• SNTS Tech.;

• Triton Educational Equipment & Consultancy Co.; and

• United Engineering.

Russia

• Avilon Ltd.

• Technomar, including one alias (Tehnomar); and

United Arab Emirates

• Focus Middle East;

• Pegasus General Trading FZC, including six aliases (Pegasus General Trading FZE; Pegasus General Trading Company; Pegasus General Trading LLC; Pegasus General; Pegasus Trading; and Pegasus);

• SANCO Middle East, FZC, including one alias (SANCO ME FZC);

• SANCO Middle East, LLC, including one alias (SANCO ME, LLC); and

• Wellmar Technology FZE.

Revisions to the Entity List

This final rule revises five existing entries, one under each of the destinations of France, Iran, Senegal, Singapore and the United Kingdom (U.K.), as follows:

This rule implements a revision to three existing entries for Dart Aviation, first added to the Entity List under the destinations of France, Iran, Senegal, and the U.K. on November 13, 2019 (84 FR 61541). BIS is revising the existing entries under France, Iran, and the U.K., by correcting the spelling of the first word of the alias, “Sari IAEA” to “SARL IEAS.”

This rule implements a revision to one existing entry for EDO-ELEMED, which was first added to the Entity List under the destinations of Lebanon and Syria, on November 13, 2019 (84 FR 61541). BIS is revising the existing entry under Lebanon by correcting the spelling of the aliases and removing redundant text.

This rule revises the existing entry for Hia Soo Gan Benson, which was first added to the Entity List, under the destination of Singapore, on October 31, 2011 (76 FR 67062). BIS is revising the first alias of the existing entry to include the full name of “Benson Hia” instead of only referencing “Benson.”

Savings Clause

Shipments of items removed from eligibility for a License Exception or export or reexport without a license (NLR) as a result of this regulatory action that were en route aboard a carrier to a port of export or reexport, on March 16, 2020, pursuant to actual orders for export or reexport to a foreign destination, may proceed to that destination under the previous eligibility for a License Exception or export or reexport without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. As set forth in Section 1768 of ECRA, all delegations, rules, regulations, orders, determinations, licenses, or other forms of administrative action that were made, issued, conducted, or allowed to become effective under the Export Administration Act of 1979 (50 U.S.C. 4601 et seq.) (as in effect on August 12, 2018, and as continued in effect pursuant to the International Emergency Economic Powers Act (50 U.S.C. 1701 et seq.)) or under the Export Administration Regulations, and were in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 42.5 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. Pursuant to § 1762 of the Export Control Reform Act of 2018 (50 U.S.C. 4801-4852), which was included in the John S. McCain National Defense Authorization Act for Fiscal Year 2019, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2019, 83 FR 47799 (September 20, 2019); Notice of November 8, 2018, 83 FR 56253 (November 9, 2018).

2. Supplement No. 4 to part 744 is amended:

a. Under CHINA, PEOPLE'S REPUBLIC OF, by adding in alphabetical order, two Chinese entities, “Jalal Rohollahnejad,” and “Wuhan IRCEN Technology”;

b. Under FRANCE, by revising one French entity, “Dart Aviation”;

c. Under IRAN,

i. By adding in alphabetical order, six Iranian entities, “Ali Mehdipour Omrani,” “Aref Bali Lashak,” “Iran Air,” “Kamran Daneshjou,” “Mehdi Teranchi,” and “Sayyed Mohammad Mehdi Hadavi”; and

ii. By revising one Iranian entity, “Dart Aviation”;

d. Under LEBANON, by revising one Lebanese entity, “EDO-ELEMED”;

e. Under PAKISTAN, by adding in alphabetical order, nine Pakistani entities, “Advance Multicom,” “Kepler Corporation,” “National Engineering Service Trading and Consultancy Co.,” “Samina Pvt. Ltd.,” “SANCO Pakistan,” “Skytech Global Pvt. Ltd.,” “SNTS Tech,” “Triton Educational Equipment & Consultancy Co.,” and “United Engineering”;

f. Under RUSSIA, by adding in alphabetical order, two Russian entities, “Avilon Ltd.” and “Technomar”;

g. Under SINGAPORE, by revising one Singaporean entity, “Hia Soo Gan Benson”;

h. Under UNITED ARAB EMIRATES, by adding in alphabetical order, five Emirati entities, “Focus Middle East,” “Pegasus General Trading FZC,” “SANCO Middle East, FZC,” “SANCO Middle East, LLC,” and “Wellmar Technology FZE”; and

i. Under UNITED KINGDOM, by revising one British entity, “Dart Aviation”.

The additions and revisions read as follows:

Supplement No. 4 to Part 744—Entity List

* * * * *

Country | Entity | License requirement | License review policy | Federal Register citation
* * * * * * *
CHINA, PEOPLE'S REPUBLIC OF | * * * * * *
| Jalal Rohollahnejad, a.k.a., the following two aliases: —Jalal Nejad; and —Jia Yuntao. | For all items subject to the EAR. (See § 744.11 of the EAR). | Presumption of denial | 85 FR [INSERT FR PAGE NUMBER], March 16, 2020.
| 1329, Unit 2, Building 1, Xin Shangdu, Block B, Optics Valley World City Plaza, Luoyu Road, Wuhan, Hubei, China 430000.
| * * * * * *
| Wuhan IRCEN Technology, 1329, Unit 2, Building 1, Xin Shangdu, Block B, Optics Valley World City Plaza, Luoyu Road, Wuhan, Hubei, China 430000. | For all items subject to the EAR. (See § 744.11 of the EAR). | Presumption of denial | 85 FR [INSERT FR PAGE NUMBER], March 16, 2020.
| * * * * * *
* * * * * * *
FRANCE | * * * * * *
| Dart Aviation, a.k.a., the following four aliases: —Dart Aviation Technics; —Dart Aviation Marlbrine S.A.R.L.; —MBP Trading Ltd.; and —SARL IEAS. | For all items subject to the EAR. (See § 744.11 of the EAR). | Presumption of denial | 84 FR 61541, 11/13/19. 85 FR [INSERT FR PAGE NUMBER], March 16, 2020.
| 3, rue de la Janaie—ZA Yves Burgot, 35400 Saint Malo I&V, France. (See alternate addresses under Iran, Senegal and the United Kingdom).
| * * * * * *
* * * * * * *
IRAN | * * * * * *
| Ali Mehdipour Omrani. | For all items subject to the EAR. (See § 744.11 of the EAR). | Presumption of denial | 85 FR [INSERT FR PAGE NUMBER], March 16, 2020.
| * * * * * *
| Aref Bali Lashak. | For all items subject to the EAR. (See § 744.11 of the EAR). | Presumption of denial | 85 FR [INSERT FR PAGE NUMBER], March 16, 2020.
| * * * * * *
| Dart Aviation, a.k.a., the following four aliases: —Dart Aviation Technics; —Dart Aviation Marlbrine S.A.R.L.; —MBP Trading Ltd.; and —SARL IEAS. | For all items subject to the EAR. (See § 744.11 of the EAR). | Presumption of denial | 84 FR 61541, 11/13/19. 85 FR [INSERT FR PAGE NUMBER], March 16, 2020.
| East Unit, 1st Floor—Building No. 1, Solhparvar Dead End—Bimeh 5th, Karaj Makhsous Avenue, Tehran, Iran. (See alternate addresses under France, Senegal and the United Kingdom).
| * * * * * *
| Iran Air, Iran Air Building, Mehrabad Airport, P.O. Box 13185-775, Tehran, Iran. | For all items subject to the EAR. (See § 744.11 of the EAR). | Case-by-Case review for licenses for the safety of civil aviation and the safe operation of aircraft; Presumption of Denial for all others | 85 FR [INSERT FR PAGE NUMBER], March 16, 2020.
| * * * * * *
| Kamran Daneshjou. | For all items subject to the EAR. (See § 744.11 of the EAR). | Presumption of denial | 85 FR [INSERT FR PAGE NUMBER], March 16, 2020.
| * * * * * *
| Mehdi Teranchi. | For all items subject to the EAR. (See § 744.11 of the EAR). | Presumption of denial | 85 FR [INSERT FR PAGE NUMBER], March 16, 2020.
| * * * * * *
| Sayyed Mohammad Mehdi Hadavi. | For all items subject to the EAR. (See § 744.11 of the EAR). | Presumption of denial | 85 FR [INSERT FR PAGE NUMBER], March 16, 2020.
| * * * * * *
* * * * * * *
LEBANON | * * * * * *
| EDO-ELEMED, a.k.a., the following two aliases: —EDO ELEMED; and —EDO/ELEMED. | For all items subject to the EAR. (See § 744.11 of the EAR). | Presumption of denial | 84 FR 61541, 11/13/19. 85 FR [INSERT FR PAGE NUMBER], March 16, 2020.
| St. Nicolas Street, Bldg. #5—Ba'abda, Beirut, Lebanon; and Ashrafiyeh, St. Louis Street, Abou Jawdeh Bldg. 2 Floor, Beirut, Lebanon. (See alternate addresses under Syria)
| * * * * * *
* * * * * * *
PAKISTAN | * * * * * *
| Advance Multicom, F-1, 1st Floor, Rizwan Arcade, 109-C Adamjee Road, Saddar, Rawalpindi, Pakistan. | For all items subject to the EAR. (See § 744.11 of the EAR). | See § 744.2(d) of the EAR | 85 FR [INSERT FR PAGE NUMBER], March 16, 2020.
| * * * * * *
| Kepler Corporation, Office No. 13, 2nd Floor, Jannat Arcade, G-11 Markaz, Islamabad, Pakistan. | For all items subject to the EAR. (See § 744.11 of the EAR). | Presumption of denial | 85 FR [INSERT FR PAGE NUMBER], March 16, 2020.
| * * * * * *
| National Engineering Service Trading and Consultancy Company, 3rd Floor, Suite 01, Khyber Plaza, Fazul-ul-Haq Road, Blue Area Islamabad, Pakistan 46000. | For all items subject to the EAR. (See § 744.11 of the EAR). | See § 744.2(d) of the EAR | 85 FR [INSERT FR PAGE NUMBER], March 16, 2020.
| * * * * * *
| Samina Pvt. Ltd., 203 Hotel Imperial Building, #2M.T. Kahn Road, Karachi, Pakistan. | For all items subject to the EAR. (See § 744.11 of the EAR). | Presumption of denial | 85 FR [INSERT FR PAGE NUMBER], March 16, 2020.
| SANCO Pakistan, Office No. 11, First Floor, City Center Plaza, D-12 Markaz, Islamabad, Pakistan; and House #269, Street #17, Sector F-10/2, Islamabad, Pakistan. | For all items subject to the EAR. (See § 744.11 of the EAR). | Presumption of denial | 85 FR [INSERT FR PAGE NUMBER], March 16, 2020.
| * * * * * *
| Skytech Global Pvt. Ltd., House No. 46A, Street 27, F-6/2, Islamabad, Pakistan. | For all items subject to the EAR. (See § 744.11 of the EAR). | Presumption of denial | 85 FR [INSERT FR PAGE NUMBER], March 16, 2020.
| * * * * * *
| SNTS Tech, Plot #C-750, First Floor, Lane #14, Lala Rukh, Wah Cantt, Pakistan. | For all items subject to the EAR. (See § 744.11 of the EAR). | Presumption of denial | 85 FR [INSERT FR PAGE NUMBER], March 16, 2020.
| * * * * * *
| Triton Educational Equipment & Consultancy Co., Number 9, 4th floor, Khyber Plaza, Fazal-ul-Haq Road, Blue Area, Islamabad, Pakistan 46000. | For all items subject to the EAR. (See § 744.11 of the EAR). | See § 744.2(d) of the EAR | 85 FR [INSERT FR PAGE NUMBER], March 16, 2020.
| * * * * * *
| United Engineering, Office No. 5, Royal Centre, Peshawar Road, Rawalpindi, Pakistan; and 183C Muslim Colony, Near Kala Pul, Off Korangi Road, Karachi, Pakistan. | For all items subject to the EAR. (See § 744.11 of the EAR). | Presumption of denial | 85 FR [INSERT FR PAGE NUMBER], March 16, 2020.
| * * * * * *
* * * * * * *
RUSSIA | * * * * * *
| Avilon Ltd., 9/1-417, Montazhnaya St., Moscow, Russia. | For all items subject to the EAR. (See § 744.11 of the EAR). | Presumption of denial | 85 FR [INSERT FR PAGE NUMBER], March 16, 2020.
| * * * * * *
| Technomar, a.k.a., the following one alias: —Tehnomar. | For all items subject to the EAR. (See § 744.11 of the EAR). | Presumption of denial | 85 FR [INSERT FR PAGE NUMBER], March 16, 2020.
| 14-60 Vorotynskaya, Moscow, Russia; and 29 Entuziastov Highway Floor 11, Moscow, Russia; and 12 Aviamotornaya Street, Moscow, Russia.
| * * * * * *
* * * * * * *
SINGAPORE | * * * * * *
| Hia Soo Gan Benson, a.k.a., the following three aliases: —Benson Hia; —Soo Gan Benson Hia; and —Thomas Yan. | For all items subject to the EAR. (See § 744.11 of the EAR). | Presumption of denial | 76 FR 67062, 10/31/11. 85 FR [INSERT FR PAGE NUMBER], March 16, 2020.
| Blk 8 Empress Road, #0705, Singapore 260008; and 2021 Bukit Batok Street 23, #02-212, Singapore 659626; and 111 North Bridge Road, #27-01 Peninsula Plaza, Singapore 179098; and 50 East Coast Road, #2-70 Roxy Square, Singapore 428769; and Block 1057 Eunos Avenue 3, #02-85, Singapore 409848.
| * * * * * *
* * * * * * *
UNITED ARAB EMIRATES | * * * * * *
| Focus Middle East, No. 504, Bldg. 5EA, Dubai Airport Free Zone, P.O. Box 293541, Dubai, U.A.E. | For all items subject to the EAR. (See § 744.11 of the EAR). | Presumption of denial | 85 FR [INSERT FR PAGE NUMBER], March 16, 2020.
| * * * * * *
| Pegasus General Trading FZC, a.k.a., the following six aliases: —Pegasus General Trading FZE; —Pegasus General Trading Company; —Pegasus General Trading LLC; —Pegasus General; —Pegasus Trading; and —Pegasus. | For all items subject to the EAR. (See § 744.11 of the EAR). | Presumption of denial | 85 FR [INSERT FR PAGE NUMBER], March 16, 2020.
| Office No. 09, Building No. Q-1, Near Nilona/Gate No. 3, Al Dhaid Street, Sharjah Airport International Airport Free Zone, Sharjah U.A.E.; and Building Q1-09, Sharjah International Airport Free Zone, Sharjah, U.A.E.; and #R2-15, P.O. Box 121640, SAIF Zone, Sharjah, U.A.E.
| * * * * * *
| SANCO Middle East, FZC, a.k.a., the following one alias: —SANCO ME FZC. | For all items subject to the EAR. (See § 744.11 of the EAR). | Presumption of denial | 85 FR [INSERT FR PAGE NUMBER], March 16, 2020.
| P.O. Box 8447, Sharjah Airport Free Zone (SAIF Zone), Sharjah, U.A.E.; and Warehouse #X1-51, Al Dhaid Road (Airport Road), Sharjah Airport International Free Zone, Sharjah, U.A.E.
| SANCO Middle East, LLC, a.k.a., the following one alias: SANCO ME, LLC. | For all items subject to the EAR. (See § 744.11 of the EAR). | Presumption of denial | 85 FR [INSERT FR PAGE NUMBER], March 16, 2020.
| Twin Tower 204A, Sharjah, 208, U.A.E.; and Office #202, 2nd Floor, Block A, Twin Tower, Al Entifadha Street, Al Majaz 2, Sharjah, U.A.E.; and Flat No. 204, Floor No. 2, Jamal Abdul Nasser Street, Al Majaz, Sharjah, U.A.E.; and P.O. Box 83982, Sharjah, U.A.E.
| * * * * * *
| Wellmar Technology FZE, Office B1-307F, Ajman Free Zone, Ajman, U.A.E. | For all items subject to the EAR. (See § 744.11 of the EAR). | Presumption of denial | 85 FR [INSERT FR PAGE NUMBER], March 16, 2020.
| * * * * * *
* * * * * * *
UNITED KINGDOM | * * * * * *
| Dart Aviation, a.k.a., the following four aliases: —Dart Aviation Technics; —Dart Aviation Marlbrine S.A.R.L.; —MBP Trading Ltd.; and —SARL IEAS. | For all items subject to the EAR. (See § 744.11 of the EAR). | Presumption of denial | 84 FR 61541, 11/13/19. 85 FR [INSERT FR PAGE NUMBER], March 16, 2020.
| Unit 7 Minton Distribution Park, London Road, Amesbury SP4 7RT Wiltshire, London, United Kingdom; and Martlet House E1, Yeoman Gate Yeoman Way Worthing West Sussex BN13 3QZ. (See alternate addresses under France, Iran and Senegal).
| * * * * * *
* * * * * * *

Dated: February 11, 2020.
Matthew S. Borman,
Deputy Assistant Secretary for Export Administration.

[FR Doc. 2020-03157 Filed 3-13-20; 8:45 am]

BILLING CODE 3510-33-P